DEPARTMENT OF COMMERCE

International Trade Administration

[A-560-830]

Biodiesel from Indonesia: Rescission of Antidumping Duty Administrative Review: 2019-2020

AGENCY: Enforcement and Compliance, International Trade Administration, Department of Commerce.

SUMMARY: The Department of Commerce (Commerce) is rescinding the administrative review of the antidumping duty (AD) order on biodiesel from Indonesia for the period of review (POR) April 1, 2019 through March 31, 2020, based on the timely withdrawal of the request for review.

DATES: Applicable September 21, 2020.

FOR FURTHER INFORMATION CONTACT: Leo Ayala, AD/CVD Operations, Office VII, Enforcement and Compliance, International Trade Administration, U.S. Department of Commerce, 1401 Constitution Avenue NW, Washington DC 20230; telephone: (202) 482-3945.

SUPPLEMENTARY INFORMATION:

Background

On April 1, 2020, Commerce published a notice of opportunity to request an administrative review of the AD order on biodiesel from Indonesia for the POR.¹ On April 30, 2020, Commerce received a timely-filed request from the National Biodiesel Board Fair Trade Coalition (Coalition) ² for an administrative review of five Indonesian producers and/or exporters, in accordance with section 751(a) of the Tariff Act of 1930, as amended (the Act), and 19 CFR 351.213(b).³

¹ See Antidumping or Countervailing Duty Order, Finding, or Suspended Investigation; Opportunity To Request Administrative Review, 85 FR 18191 (April 1, 2020).

² The Coalition is an association, a majority of whose members is composed of domestic producers of biodiesel. Coalition members include the National Biodiesel Board (the NBB), American GreenFuels, LLC, Archer Daniels Midland Company, Ag Processing Inc a cooperative, Crimson Renewable Energy LP, High Plains Bioenergy, Integrity Biofuels, LLC, Iowa Renewable Energy, LLC, Lake Erie Biofuels dba HERO BX. Minnesota Soybean Processors, New Leaf Biofuel, LLC, Newport Biodiesel, L.L.C., Renewable Biofuels, LLC, Renewable Energy Group, Inc., Western Dubuque Biodiesel, LLC, Western Iowa Energy, LLC, and World Management Group LLC dba World Energy.

³ See Coalition's' Letter, “Biodiesel from Indonesia: Request for Administrative Review of Antidumping Duty Order,” dated April 30, 2020.

On June 8, 2020, pursuant to this request, and in accordance with section 751(a) of the Act and 19 CFR 351.221(c)(1)(i), Commerce published a notice initiating an administrative review of the antidumping duty order on biodiesel from Indonesia.⁴ On September 1, 2020, the Coalition timely withdrew its request for an administrative review for all five producers and/or exporters.⁵

⁴ See Initiation of Antidumping and Countervailing Duty Administrative Reviews, 85 FR 35068 (June 8, 2020).

⁵ See Coalition's' Letter, “Biodiesel from Indonesia: Withdrawal of Request for Administrative Review of Antidumping Duty Order,” dated September 1, 2020.

Rescission of Review

Pursuant to 19 CFR 351.213(d)(1), Commerce will rescind an administrative review, in whole or in part, if the party or parties that requested a review withdraws the request within 90 days of the publication date of the notice of initiation of the requested review. The Coalition withdrew its request for review within the 90-day deadline. Because Commerce received no other requests for review, we are rescinding the administrative review of the order on biodiesel from Indonesia covering the April 1, 2019 through March 31, 2020 POR, in its entirety, in accordance with 19 CFR 351.213(d)(1).

Assessment

Commerce will instruct U.S. Customs and Border Protection (CBP) to assess antidumping duties on all appropriate entries of biodiesel from Argentina. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping and/or countervailing duties prior to liquidation of the relevant entries during this review period. Failure to comply with this requirement could result in the presumption that reimbursement of antidumping and/or countervailing duties occurred and the subsequent assessment of doubled antidumping duties.

Administrative Protective Orders

This notice also serves as a reminder to all parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: September 15, 2020.
James Maeder,
Deputy Assistant Secretary for Antidumping and Countervailing Duty Operations.

[FR Doc. 2020-20786 Filed 9-18-20; 8:45 am]

BILLING CODE 3510-DS-P